DEPARTMENT OF THE INTERIOR

National Park Service

[NPS-WASO-NRNHL-DTS#-38912; PPWOCRADI0, PCU00RP14.R50000]

National Register of Historic Places; Notification of Pending Nominations and Related Actions

AGENCY: National Park Service, Interior.

ACTION: Notice.

SUMMARY: The National Park Service is soliciting electronic comments on the significance of properties nominated before October 5, 2024, for listing or related actions in the National Register of Historic Places.

DATES: Comments should be submitted electronically by November 1, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before October 5, 2024. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ALABAMA

Jefferson County

American Laundry Company Building, 1630 2nd Avenue S, Birmingham, SG100010966

Madison County

Whitesburg Estates Historic District, 10101-10115 Cahaba Road SW, 2100-2206 Chadburn Drive SW, 1919-1928 Edenton Drive SW, 1905-1930 Lynnbrook Drive SW, 2100-2206 Manassas Drive SW, 10100-10106 Memorial Parkway SW (even numbers only), 2114-2118 Mythewood Circle SW, 2006-2119 Mythewood Drive SW, 10100, Huntsville, SG100010967

COLORADO

Huerfano County

Oxford Hotel, 118 W 6th Street, Walsenburg, SG100011000

LOUISIANA

Caddo Parish

Barret Elementary School, 2600 Barret Street, Shreveport, SG100010961

East Carroll Parish

First National Bank, 216 Lake Street, Lake Providence, SG100010960

Grant Parish

Grant-Walker 4-H Educational Center, 3000 Highway 8, Pollock, SG100010959

West Feliciana Parish

St. Francisville Historic District (Boundary Increase II), Roughly bounded by the north property lines of the properties along Ferdinand Street; east by the intersection of Ferdinand and Royal Streets, south by the rear property lines of properties on Royal and Ferdinand Streets, and west by the property lines of St. Francisville, BC100010962

MINNESOTA

Hennepin County

Tifereth B' nai Jacob Synagogue-First Church of God in Christ, 810 Elwood Avenue North, Minneapolis, SG100011012

Roseau County

Roseau Memorial Arena, 321 2nd Avenue NW, Roseau, SG100011014

MONTANA

Yellowstone County

Riverside Park, Laurel, 1425 U.S. Highway 212 South, 59044, Laurel, SG100010974

NEW YORK

Bronx County

Dollar Savings Bank, 2516-2530 Grand Concourse, Bronx, SG100010987

Erie County

Spencer Kellogg & Sons Elevator, (Buffalo Grain and Materials Elevator MPS), 395 Ganson Street, Buffalo, MP100010984

Sattler Theater, 512 Broadway, Buffalo, SG100010985

Alden State Bank, 13200 Broadway, Alden, SG100010986

Kings County

Louise Terrace-Colonial Road Historic District, 7001-7024 Louise Terrace; 7002-7024 Colonial Road, Brooklyn, SG100010983

Lewis County

Lowville & Beaver River Railroad Historic District, Railway corridor from Lowville to Croghan, New York, Lowville, SG100010982

New York County

28th Police Precinct Station House, 177 East 104th Street, New York, SG100010988

Orange County

Sugar Loaf Historic District, 1353-1410 Kings Highway, 8-16 Pine Hill Road, 56-62 Wood Road, Sugar Loaf, SG100010981

Otsego County

Schuyler Lake Stone Church, 7378 NY 28, Schuyler Lake, SG100010979

Joseph Peck House, 830 Pegg Rd., New Lisbon, SG100010980

Schenectady County

General Electric Building 31, 112 Erie Boulevard, Schenectady, SG100010977

General Electric Building 32, 108 Erie Boulevard, Schenectady, SG100010978

Wayne County

Reed Manufacturing Company, 130-132 Harrison Street, Newark, SG100010976

OHIO

Franklin County

Teakwood Heights Historic District, Inclusive addresses along Gardendale Drive, North Gardendale Drive, West Gardendale Drive, Somersworth Court, Somersworth Drive, North Somersworth Drive, and 1325 Sunbury Road, Columbus, SG100011016

TENNESSEE

Jefferson County

Mossy Creek Presbyterian Church, 721 Church Street, Jefferson City, SG100010996

Shelby County

Crawford, West J., House (Residential Resources of Memphis MPS), 290 S Lauderdale Street, Memphis, MP100010997

VIRGINIA

Galax INDEPENDENT CITY

Rosenwald-Felts School (Rosenwald Schools in Virginia MPS), 105 Rosenwald Felts Drive, Galax, MP100010993

Lynchburg INDEPENDENT CITY

Lynchburg Sta-Kleen Bakery, 1218 Park Avenue, Lynchburg, SG100010994

Tazewell County

Bluefield Commercial Historic District, Virginia Avenue, Spring Street, S College Avenue, Bluefield, SG100010975

Wise County

James A. Bland High School, 505 E 5th Street South, Big Stone Gap, SG100010995

WEST VIRGINIA

Greenbrier County

Arbuckle's Fort (Frontier Forts of West Virginia MPS), Blaker's Mill Road, Alderson, MP100011010

Harrison County

Kelly Miller School, 408 E.B. Saunders Way, Clarksburg, SG100011002

Jefferson County

Isaac Clymer Farm, 2328 Engle Molers Road, Harpers Ferry, SG100011003

Kanawha County

Beni Kedem Shrine Temple, 100 Quarrier Street, Charleston, SG100011004

Kanawha & Michigan Railway Depot Warehouse, 800 Smith Street, Charleston, SG100011005

Monongalia County

Morgantown Green Book Historic District (Green Book Sites in West Virginia MPS), 2 Cayton Street. 3 Cayton Street. and 1046 College Avenue, Morgantown, MP100011009

Morgan County

Nixon, Senator P.E., House, 40 Winchester Street, Paw Paw, SG100011008

Pocahontas County

Warwick's Fort (Frontier Forts of West Virginia MPS), Address Restricted, Green Bank, MP100011011

WISCONSIN

Dodge County

Meissner Store, N887-889 State Highway 67, Ashippun, SG100010954

Outagamie County

Aid Association for Lutherans (AAL) Building, 222 West College Avenue, Appleton, SG100010969

A request for removal has been made for the following resource(s):

LOUISIANA

Orleans Parish

Lee, Robert E., Monument, Lee Cir. (900-1000 blocks St. Charles Ave.), New Orleans, OT91000254

MASSACHUSETTS

Middlesex County

Foster, Samuel, House (First Period Buildings of Eastern Massachusetts TR), 288 Grove St., Reading, OT90000178

TENNESSEE

Cannon County

Readyville Mill, On U.S. 70S, Readyville, OT73001753

Gibson County

Union Central School, Union Central Rd., Milan vicinity, OT85001490

Sumner County

Ferrell, Mary Felice, House, 2144 Nashville Pike, Gallatin, OT92000348

Additional documentation has been received for the following resource(s):

ALABAMA

Hale County

Magnolia Grove (Additional Documentation), W end of Main St., Greensboro, AD73000345

COLORADO

El Paso County

Ponderosa Lodge (Additional Documentation) (Jules Jacques Benois Benedict Architecture in Colorado MPS), 6145 Shoup Rd., Colorado Springs vicinity, AD08000829

LOUISIANA

West Feliciana Parish

St. Francisville Historic District (Additional Documentation), Royal and Prosperity Sts., St. Francisville, AD80001772

MINNESOTA

Goodhue County

Old Frontenac Historic District (Additional Documentation) (Rural Goodhue County MRA) Roughly bounded by Winona Dr., Burr Oak St., Lake and Westervelt Aves., Red Wing vicinity, AD73000978

TENNESSEE

Anderson County

Arnwine Cabin (Additional Documentation), 2819 Andersonville Highway, Norris, AD76001760

Hancock County

Old Jail (Additional Documentation), 236 Jail Street, Sneedville, AD73001784

Knox County

Morton, Benjamin, House (Additional Documentation) (Knoxville and Knox County MPS), 4084 Kingston Pike, Knoxville, AD04001233

Maury County

Beechlawn Advance and Retreat (Additional Documentation), 2799 Pulaski Highway, Columbia vicinity, AD71000824

Sullivan County

Erwin Farm (Additional Documentation), 389 Adams Chapel Road, Blountville vicinity, AD73001836

VIRGINIA

Caroline County

Meadow, The, Historic District (Additional Documentation II), 13111 Dawn Blvd., Doswell, AD15000276

WEST VIRGINIA

Wayne County

Ramsdell, Z.D., House (Additional Documentation), 1108 B St., Ceredo, AD83003254

Authority: Section 60.13 of 36 CFR part 60.

Sherry A. Frear,
Chief, National Register of Historic Places/National Historic Landmarks Program.

[FR Doc. 2024-23978 Filed 10-16-24; 8:45 am]

BILLING CODE 4312-52-P